ENVIRONMENTAL PROTECTION AGENCY

40 CFR Part 52

[EPA-R08-OAR-2013-0047; FRL-9932-60-Region 8]

Air Plan Approval; ND; Update to Materials Incorporated by Reference

AGENCY: Environmental Protection Agency (EPA).

ACTION: Final rule; administrative change.

SUMMARY: The Environmental Protection Agency (EPA) is updating the materials that are incorporated by reference (IBR) into the North Dakota State Implementation Plan (SIP). The regulations affected by this update have been previously submitted by the North Dakota Department of Health and approved by the EPA. In this action, the EPA is also notifying the public of corrections to typographical errors and minor formatting changes to the IBR tables. This update affects the SIP materials that are available for public inspection at the EPA Regional Office.

DATES: This action is effective December 8, 2015.

ADDRESSES: The EPA has established a docket for this action under Docket Identification Number EPA-R08-OAR-2013-0047. All documents in the docket are listed on the http://www.regulations.gov Web site. Although listed in the index, some information may not be publicly available, i.e., Confidential Business Information or other information the disclosure of which is restricted by statute. Certain other material, such as copyrighted material, is not placed on the Internet and will be publicly available only in the hard copy form. Publicly available docket materials are available either electronically through http://www.regulations.gov or in hard copy at EPA Region 8, Office of Partnership and Regulatory Assistance, Air Program, 1595 Wynkoop Street, Denver, Colorado 80202-1129. The EPA requests that you contact the individual listed in the FOR FURTHER INFORMATION CONTACT section to view the hard copy of the docket. An electronic copy of the State's SIP compilation is also available at http://www.epa.gov/region8/air/sip.html.

FOR FURTHER INFORMATION CONTACT: Kathy Ayala, Air Program, U.S. Environmental Protection Agency (EPA), Region 8, Mailcode 8P-AR, 1595 Wynkoop Street, Denver, Colorado 80202-1129, (303) 312-6142, ayala.kathy@epa.gov.

SUPPLEMENTARY INFORMATION:

I. Background

The SIP is a living document which a state revises as necessary to address its unique air pollution problems. Therefore, the EPA, from time to time, must take action on SIP revisions containing new and/or revised regulations as being part of the SIP. On May 22, 1997 (62 FR 27968), the EPA revised the procedures for incorporating by reference federally-approved SIPs, as a result of consultation between the EPA and the Office of the Federal Register (OFR). The description of the revised SIP document, IBR procedures and “Identification of Plan” format are discussed in further detail in the May 22, 1997, Federal Register document. On April 21, 2009 (74 FR 18141) the EPA published an update to the IBR material for North Dakota as of March 1, 2009. Today's action is an update to the March 1, 2009 document.

II. EPA Action

In this action, the EPA is announcing the update to the IBR material as of August 1, 2015. The EPA is also correcting typographical errors, including omissions and other minor errors in subsection 52.1820, paragraphs (c), (d), and (e).

III. Good Cause Exemption

EPA has determined that today's action falls under the “good cause” exemption in section 553(b)(3)(B) of the Administrative Procedure Act (APA) which, upon a finding of “good cause” authorizes agencies to dispense with public participation, and section 553(d)(3), which allows an agency to make a rule effective immediately (thereby avoiding the 30-day delayed effective date otherwise provided for in the APA). Today's action simply updates the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the federal government and Indian tribes, or on the distribution of power and responsibilities between the federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules are discussed in previous actions taken on the State's rules.

In this rule, EPA is finalizing regulatory text that includes incorporation by reference. In accordance with requirements of 1 CFR 51.5, EPA is finalizing the incorporation by reference of the North Dakota regulations described in the amendments to 40 CFR part 52 set forth below. EPA has made, and will continue to make, these documents generally available electronically through www.regulations.gov and/or in hard copy at the appropriate EPA office (see the ADDRESSES section of this preamble for more information).

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in federal and approved state programs. 5 U.S.C. 808(2). As stated previously, EPA has made such a good cause finding and established an effective date of December 8, 2015. EPA will submit a report containing this rule and other required information to the U.S. Senate, the U.S. House of Representatives, and the Comptroller General of the United States prior to publication of the rule in the Federal Register. This change to the identification of plan for North Dakota is not a “major rule” as defined by 5 U.S.C. 804(2).

C. Petitions for Judicial Review

EPA has also determined that the provisions of section 307(b)(1) of the Clean Air Act pertaining to petitions for judicial review are not applicable to this action. Prior EPA rulemaking actions for each individual component of the North Dakota SIP compilation had previously afforded interested parties the opportunity to file a petition for judicial review in the United States Court of Appeals for the appropriate circuit within 60 days of such rulemaking action. Thus, EPA sees no need in this action to reopen the 60-day period for filing such petitions for judicial review for this “Identification of plan” reorganization action for North Dakota.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 8, 2015.
Shaun L. McGrath,
Regional Administrator, Region 8.

PART 52—APPROVAL AND PROMULGATION OF IMPLEMENTATION PLANS

1. The authority citation for part 52 continues to read as follows:

Authority: 42 U.S.C. 7401 et seq.

Subpart JJ—North Dakota

2. In § 52.1820 paragraphs (b), (c), (d) and (e) are revised to read as follows:

§ 52.1820 Identification of plan.

* * * * *

(b) Incorporation by reference. (1) Material listed in paragraphs (c) and (d) of this section with an EPA approval date prior to August 1, 2015, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after August 1, 2015, will be incorporated by reference in the next update to the SIP compilation.

(2) EPA Region 8 certifies that the rules/regulations provided by EPA in the SIP compilation at the addresses in paragraph (b)(3) of this section are an exact duplicate of the officially promulgated state rules/regulations which have been approved as part of the SIP as of August 1, 2015.

(3) Copies of the materials incorporated by reference may be inspected at the EPA Region 8 Office, Office of Partnerships and Regulatory Assistance (OPRA), Air Program, 1595 Wynkoop Street, Denver, Colorado 80202-1129.

(c) EPA-approved regulations.

Rule No. | Rule title | State effective date | EPA effective date | Final rule citation/date | Comments
33-15-01. General Provisions
33-15-01-01 | Purpose | 10/1/87 | 6/12/89 | 54 FR 20574, 5/12/89
33-15-01-02 | Scope | 10/1/87 | 6/12/89 | 54 FR 20574, 5/12/89
33-15-01-03 | Authority | 9/1/97 | 5/3/04 | 69 FR 17302, 4/2/04
33-15-01-04 | Definitions | 4/1/11 | 6/2/14 | 79 FR 25021, 5/2/14
33-15-01-05 | Abbreviations | 4/1/09 | 12/5/11 | 76 FR 68317, 11/4/11
33-15-01-06 | Entry onto Premises—Authority | 10/1/87 | 6/12/89 | 54 FR 20574, 5/12/89
33-15-01-07 | Variances | 6/1/1990 | 8/25/1992 | 57 FR 28619, 6/26/92
33-15-01-08 | Circumvention | 6/1/90 | 8/25/92 | 57 FR 28619, 6/26/92
33-15-01-09 | Severability | 10/1/87 | 6/12/89 | 54 FR 20574, 5/12/89
33-15-01-10 | Land use plans and zoning regulations | 10/1/87 | 6/12/89 | 54 FR 20574, 5/12/89
33-15-01-12 | Measurement of emissions of air contaminants | 6/1/01 | 3/31/03 | 68 FR 9565, 2/28/03
33-15-01-13 | Shutdown and malfunction of an installation—Requirement for notification | 4/1/09 | 12/5/11 | 76 FR 68317, 11/4/11
33-15-01-14 | Time schedule for compliance | 10/1/87 | 6/12/89 | 54 FR 20574, 5/12/89
33-15-01-15 | Prohibition of air pollution | 6/1/01 | 3/31/03 | 68 FR 9565, 2/28/03
33-15-01-16 | Confidentiality of records | 10/1/87 | 6/12/89 | 54 FR 20574, 5/12/89
33-15-01-17 | Enforcement | 3/1/03 | 11/22/04 | 69 FR 61762, 10/21/04
33-15-01-18 | Compliance Certifications | 3/1/03 | 11/22/04 | 69 FR 61762, 10/21/04
33-15-02. Ambient Air Quality Standards
33-15-02-01 | Scope | 10/1/87 | 6/12/89 | 54 FR 20574, 5/12/89
33-15-02-02 | Purpose | 10/1/87 | 6/12/89 | 54 FR 20574, 5/12/89
33-15-02-03 | Air quality guidelines | 10/1/87 | 6/12/89 | 54 FR 20574, 5/12/89
33-15-02-04 | Ambient air quality standards | 4/1/11 | 6/2/14 | 79 FR 25021, 5/2/14
33-15-02-05 | Method of sampling and analysis | 12/1/94 | 12/9/96 | 61 FR 52865, 10/8/96
33-15-02-06 | Reference conditions | 10/1/87 | 6/12/89 | 54 FR 20574, 5/12/89
33-15-02-07 | Concentration of air contaminants in the ambient air restricted | 4/1/11 | 6/2/14 | 79 FR 25021, 5/2/14
Table 1 | Ambient Air Quality Standards | 4/1/11 | 6/2/14 | 77 FR 25021, 5/2/14
Table 2 | National Ambient Air Quality Standards | 4/1/11 | 6/2/14 | 79 FR 25021, 5/2/14
33-15-03. Restriction of Emission of Visible Air Contaminants
33-15-03-01 | Restrictions applicable to existing installations | 10/1/87 | 6/12/89 | 54 FR 20574, 5/12/89
33-15-03-02 | Restrictions applicable to new installations and all incinerators | 10/1/87 | 6/12/89 | 54 FR 20574, 5/12/89
33-15-03-03 | Restrictions applicable to fugitive emissions | 10/1/87 | 6/12/89 | 54 FR 20574, 5/12/89
33-15-03-03.1 | Restrictions applicable to flares | 10/1/87 | 6/12/89 | 54 FR 20574, 5/12/89
33-15-03-04 | Exceptions | 1/1/13 | 10/22/14 | 79 FR 63045, 11/21/14
33-15-03-05 | Method of measurement | 10/1/87 | 6/12/89 | 54 FR 20574, 5/12/89
33-15-04. Open Burning Restrictions
33-15-04-01 | Refuse burning restrictions | 1/1/07 | 7/28/08 | 73 FR 30308, 5/27/08
33-15-04-02 | Permissible open burning | 1/1/07 | 7/28/08 | 73 FR 30308, 5/27/08
33-15-05. Emissions of Particulate Matter Restricted
33-15-05-01 | Restriction of emission of particulate matter from industrial processes | 1/1/13 | 10/22/14 | 79 FR 63045, 11/21/14
33-15-05-02 | Maximum allowable emission of particulate matter from fuel burning equipment used for indirect heating | 3/1/03 | 11/22/04 | 69 FR 61762, 10/21/04
33-15-05-03.2 | Refuse incinerators | 4/1/09 | 12/5/11 | 76 FR 68317, 11/4/11
33-15-05-03.3 | Other waste incinerators | 3/1/03 | 11/22/04 | 69 FR 61762, 10/21/04
33-15-05-04 | Methods of measurement | 3/1/03 | 11/22/04 | 69 FR 61762, 10/21/04
33-15-06. Emissions of Sulfur Compounds Restricted.
33-15-06-01 | Restriction of emissions of sulfur dioxide from use of fuel | 3/1/03 | 11/22/04 | 69 FR 61762, 10/21/04 | See 63 FR 45722 (8/27/98) for additional material.
33-15-06-02 | Restriction of emissions of sulfur oxides from industrial processes | 6/1/92 | 12/20/93 | 58 FR 54041, 10/20/93
33-15-06-03 | Methods of measurement | 3/1/03 | 11/22/04 | 69 FR 61762, 10/21/04
33-15-06-04 | Continuous emission monitoring requirements | 6/1/92 | 12/20/93 | 58 FR 54041, 10/20/93
33-15-06-05 | Reporting and recordkeeping requirements | 6/1/92 | 12/20/93 | 58 FR 54041, 10/20/93
33-15-07. Control of Organic Compounds Emissions
33-15-07-01 | Requirements for construction of organic compounds facilities | 9/1/98 | 11/1/99 | 64 FR 47395, 8/31/99
33-15-07-02 | Requirements for organic compounds gas disposal | 6/1/92 | 10/20/95 | 60 FR 43396, 8/21/95
33-15-08. Control of Air Pollution from Vehicles and Other Internal Combustion Engines.
33-15-08-01 | Internal combustion engine emissions restricted | 7/1/78 | 11/2/79 | 44 FR 63102, 11/2/79
33-15-08-02 | Removal and/or disabling of motor vehicle pollution control devices prohibited | 7/1/78 | 11/2/79 | 44 FR 63102, 11/2/79
33-15-10. Control of Pesticides
33-15-10-01 | Pesticide use restricted | 1/1/89 | 9/10/90 | 55 FR 32403, 8/9/90
33-15-10-02 | Restrictions on the disposal of surplus pesticides and empty pesticide containers | 6/1/90 | 8/25/92 | 57 FR 28619, 6/26/92
33-15-11. Prevention of Air Pollution Emergency Episodes
33-15-11-01 | Air pollution emergency | 10/1/87 | 6/12/89 | 54 FR 20574, 5/12/89
33-15-11-02 | Air pollution episode criteria | 10/1/87 | 6/12/89 | 54 FR 20574, 5/12/89
33-15-11-03 | Abatement strategies emission reduction plans | 10/1/87 | 6/12/89 | 54 FR 20574, 5/12/89
33-15-11-04 | Preplanned abatement strategies plans | 1/1/89 | 9/10/90 | 55 FR 32403, 8/9/90
Table 6 | Air pollution episode criteria | 8/1/95 | 6/20/97 | 62 FR 19224, 4/21/97
Table 7 | Abatement strategies emission reduction plans | 8/1/95 | 6/20/97 | 62 FR 19224, 4/21/97
33-15-14. Designated Air Contaminant Sources Permit to Construct Minor Source Permit to Operate Title V Permit to Operate
33-15-14-01 | Designated air contaminant sources | 4/1/11 | 6/2/14 | 79 FR 25021, 5/2/14
33-15-14-01.1 | Definitions | 1/1/96 | 6/20/97 | 62 FR 19224, 4/21/97
33-15-14-02 | Permit to construct | 4/1/11 | 6/2/14 | 79 FR 25021, 5/2/14 | Excluding subsections 1, 12, 13, 3.c., 13.b.1., 5, 13.c., 13.i(5), 13.o., and 19 (one sentence) which were subsequently revised and approved. See 57 FR 28619 (6/26/92), regarding State's commitment to meet requirements of EPA's “Guideline on Air Quality Models (revised).”
33-15-14-03 | Minor source permit to operate | 4/1/11 | 6/2/14 | 79 FR 25021, 5/2/14
33-15-14-07 | Source exclusion from title V permit to operate requirements | 6/1/01 | 3/31/03 | 68 FR 9565, 2/28/03
33-15-15. Prevention of Significant Deterioration of Air Quality
33-15-15-01.1 | Purpose | 2/1/05 | 8/20/07 | 72 FR 39564, 7/19/07
33-15-15-01.2 | Scope | 1/1/13 | 8/29/13 | 78 FR 45866, 7/30/13 | See 40 CFR 52.1829(c) and (d).
33-15-15-02 | Reclassification | 2/1/05 | 8/20/07 | 72 FR 39564, 7/19/07
33-15-17. Restriction of Fugitive Emissions
33-15-17-01 | General provisions—applicability and designation of affected facilities | 6/1/01 | 3/31/03 | 68 FR 9565, 2/28/03
33-15-17-02 | Restriction of fugitive particulate emissions | 1/1/07 | 7/28/08 | 73 FR 30308, 5/27/08
33-15-17-03 | Reasonable precautions for abating and preventing fugitive particulate emissions | 7/1/78 | 11/2/79 | 44 FR 63102, 11/2/79
33-15-17-04 | Restriction of fugitive gaseous emissions | 7/1/78 | 11/2/79 | 44 FR 63102, 11/2/79
33-15-18. Stack Heights
33-15-18-01 | General provisions | 10/1/87 | 1/13/89 | 53 FR 45763, 11/14/88
33-15-18-02 | Good engineering practice demonstrations | 10/1/87 | 1/13/89 | 53 FR 45763, 11/14/88
33-15-18-03 | Exemptions | 10/1/87 | 1/13/89 | 53 FR 45763, 11/14/88
33-15-19. Visibility Protection
33-15-19-01 | General provisions | 10/1/87 | 11/28/88 | 53 FR 37757, 9/28/88
33-15-19-02 | Review of new major stationary sources and major modifications | 10/1/87 | 11/28/88 | 53 FR 37757, 9/28/88
33-15-19-03 | Visibility monitoring | 10/1/87 | 11/28/88 | 53 FR 37757, 9/28/88
33-15-20. Control of Emissions from Oil and Gas Well Production Facilities
33-15-20-01 | General provisions | 6/1/92 | 10/20/95 | 60 FR 43396, 8/21/95
33-15-20-02 | Registration and reporting requirements | 6/1/92 | 10/20/95 | 60 FR 43396, 8/21/95
33-15-20-03 | Prevention of significant deterioration applicability and source information requirements | 6/1/92 | 10/20/95 | 60 FR 43396, 8/21/95
33-15-20-04 | Requirements for control of production facility emissions | 6/1/90 | 8/25/92 | 57 FR 28619, 6/26/92
33-15-23. Fees
33-15-23-01 | Definitions | 8/1/95 | 6/20/97 | 62 FR 19224, 4/21/97
33-15-23-02 | Permit to construct fees | 8/1/95 | 6/20/97 | 62 FR 19224, 4/21/97
33-15-23-03 | Minor source permit to operate fees | 4/1/09 | 12/5/11 | 76 FR 68317, 11/4/11
33-15-25. Regional Haze Requirements
33-15-25-01 | Definitions | 1/1/07 | 5/7/12 | 77 FR 20894, 4/6/12
33-15-25-02 | Best available retrofit technology | 1/1/07 | 5/7/12 | 77 FR 20894, 4/6/12
33-15-25-03 | Guidelines for best available retrofit technology determinations under the regional haze rule | 1/1/07 | 5/7/12 | 77 FR 20894, 4/6/12
33-15-25-04 | Monitoring, recordkeeping, and reporting | 1/1/07 | 5/7/12 | 77 FR 20894, 4/6/12

(d) EPA-approved source specific requirements.

Rule No. | Rule title | State effective date | EPA effective date | Final rule citation/date | Comments
American Crystal Sugar at Drayton.
Chapter 8, Section 8.3., Permit 730015 | Continuous Emission Monitoring Requirements for Existing Stationary Sources, including Amendments to Permits to Operate and Department Order | 5/6/77 | 10/17/77 | 42 FR 55471, 10/17/77
Coal Creek Station Units 1 and 2.
PTC10005 | Air pollution Control permit to construct for best available retrofit technology (BART) | 2/23/10 | 5/7/12 | 77 FR 20894, 4/6/12 | Excluding disapproved NOX BART emissions limits for Units 1 and 2 and corresponding monitoring, recordkeeping, and reporting requirements.
Heskett Station Units 1 and 2.
Chapter 8, Section 8.3., Permit F76001 | Continuous Emission Monitoring Requirements for Existing Stationary Sources, including amendments to Permits to Operate and Department Order | 5/6/77 | 10/17/77 | 42 FR 55471, 10/17/77
PTC 10028 | Air Pollution Control Permit to Construct for Best Available Retrofit Technology (BART) Heskett Unit 2 | 7/22/10 | 5/7/12 | 77 FR 20894, 4/6/12
Leland Olds Units 1 and 2.
Chapter 8, Section 9.3., Permit 730004 | Continuous Emission Monitoring Requirements for Existing Stationary Sources, including amendments to Permits to Operate and Department Order | 5/6/77 | 10/17/77 | 42 FR 55471, 10/17/77
PTC10004 | Air pollution control permit to construct for best available retrofit technology (BART) | 2/23/10 | 5/7/12 | 77 FR 20894, 4/6/12
Milton R. Young Station Units 1 and 2.
Chapter 8, Section 8.3.2 | Continuous Opacity Monitoring for M.R. Young Station Unit 1 Main Boiler | 3/1/13 | 8/31/15 | 80 FR 37157, 6/30/15
PTC10007 | Air pollution control permit to construct for best available retrofit technology (BART) | 2/23/10 | 5/7/12 | 77 FR 20894, 4/6/12
Stanton Station Unit 1.
Chapter 8, Section 8.3.1., Permit F76007 | Compliance Schedule for Installation of Continuous Opacity Monitoring Instruments | 3/15/77 | 5/7/12 | 77 FR 20894, 4/6/12
PTC 10006 | Air Pollution Control Permit to Construct for Best Available Retrofit Technology (BART) | 2/23/10 | 5/7/12 | 77 FR 20894, 4/6/12
Tesoro Mandan Refinery.
77-311 APC | Compliance Schedule for Continuous Opacity Monitoring Instruments | 5/9/77 | 7/28/08 | 73 FR 30308, 5/27/08
Chapter 8, Section 8.3.1 | Continuous Opacity Monitoring for Fluid Bed Catalytic Cracking Units: Tesoro Refining and Marketing Co., Mandan Refinery | 2/27/07 | 7/28/08 | 73 FR 30308, 5/27/08

(e) EPA-approved nonregulatory provisions.

Rule No. | Rule title | State effective date | EPA effective date | Final rule citation/date | Comments
Chapter 1. Introduction.
Sections 1.1. thru 1.7 | Section 1.1., Purpose; 1.2., Scope; 1.3., Classification of Regions; 1.4., Public Hearings; 1.5., Reports; 1.6., Provisions for Making Emissions Data Available to the Public; 1.7., Revisions, Individually Negotiated Compliance Schedules—Public Hearing (5/15/1973) | 1/24/72 | 6/30/72 | 37 FR 10842, 5/31/72 |
Section 1.8 | Revisions: Public Hearing (11/20/1973) | 11/20/73 | 11/16/77 | 42 FR 55471, 10/17/77
Section 1.9 | Revisions: Public Hearing (5/22/1974) | 5/22/74 | 11/16/77 | 42 FR 55471, 10/17/77
Section 1.10 | Public Hearing: (11/17/1975) Adoption of regulations Pursuant to Request for Delegation of Authority to Implement and Enforce Federal NSPS, NESHAPS, and PSD Programs | 11/17/75 | 11/16/77 | 42 FR 55471, 10/17/77
Section 1.13 | Revisions, Public Hearing—Adoption of New and Revised Air Pollution Control Regulations and Revisions to the Implementation Plan | 11/2/79 | 8/12/80 | 45 FR 53475, 8/12/80
Section 1.14 | Revisions to the Implementation Plan | 4/1/09 | 10/17/12 | 77 FR 57029, 9/17/12
Chapter 2. Legal Authority.
Sections 2.1. thru 2.10 | 2.1., Introduction; 2.2., 420.11(a); 2.3., 420.11(b); 2.4., 420.11(c); 2.5., 420.11(d); 2.6., 420.11(e); 2.7., 420.11(f); 2.8., Future Legal Authority Needs; 2.9., Legal Authority to Control Indirect Sources of Air Pollution; 2.10., Legal Authority to Implement and Enforce Federal NSPS, NESHAPS, and PSD Programs | 1/24/72 | 5/31/72 | 37 FR 10842, 5/31/72
Section 2.11 | Legal Authority for Collection of Permit or Registration Processing Fees and Inspection Program Fees and Registration of Certain Air Contaminant Sources | 7/1/79 | 8/12/80 | 45 FR 53475, 8/12/80
Section 2.15 | Respecting Boards | 3/1/13 | 8/28/13 | 78 FR 45867, 7/29/13
Chapter 3. Control Strategy.
Section 3.1 | Introduction | 1/24/72 | 5/31/72 | 37 FR 10842, 5/31/72
Section 3.2 | Control Strategy: Particulate Matter | 1/24/72 | 5/31/72 | 37 FR 10842, 5/31/72
Section 3.2.1 | Control Strategy: Particulate Matter (PM10) | 1/1/89 | 9/10/90 | 55 FR 32403, 8/0/90
Section 3.3 | Control Strategy: Sulphur Oxides | 1/24/72 | 5/31/72 | 37 FR 10842, 5/31/72
Section 3.4 | Control Strategy: Carbon Monoxide, Hydrocarbons, Photochemical Oxidants, and Nitrogen Dioxide | 1/24/72 | 5/31/72 | 37 FR 10842, 5/31/72
Section 3.5 | Future Control Strategy Needs | 1/24/72 | 5/31/72 | 37 FR 10842, 5/31/72
Section 3.6 | Identification and Designation of Air Quality Maintenance Areas | 1/24/72 | 5/31/72 | 37 FR 10842, 5/31/72
Section 3.7 | Visibility—Long-Term Strategy |  | 12/4/89 | 54 FR 41094, 10/5/89
Chapter 4. Compliance Schedules.
Chapter 4 | Compliance Schedules | 2/19/74 | 5/31/72 | 37 FR 10842, 5/31/72
Chapter 5. Prevention of Air Pollution Emergency Episodes.
Chapter 5 | Prevention of Air Pollution Emergency Episodes | 1/24/72 | 5/31/72 | 37 FR 10842, 5/31/72
Section 5.2.1 | Replacement of TSP levels with PM10 levels | 1/1/89 | 9/10/90 | 55 FR 32403, 8/9/90
Chapter 6. Air Quality Surveillance.
Section 6.1 thru 6.7 | 6.1., Introduction; 6.2., Ambient Air Quality Monitoring Network Design; 6.3., Ambient Air Quality Monitoring Network Description; 6.4., Station Designations; 6.5., Air Quality Monitoring Criteria; 6.6., Episode Monitoring; 6.7., Data Reporting | 1/1/80 | 8/12/80 | 45 FR 53475, 8/12/80
Section 6.8 | Annual Network Review | 4/1/09 | 10/17/12 | 77 FR 57029, 9/17/12
Section 6.9 | Public Notification | 1/1/80 | 8/12/80 | 45 FR 53475, 8/12/89
Section 6.10 | Visibility Monitoring | 10/1/87 | 11/28/88 | 53 FR 37757, 9/28/88
Section 6.11 | Particulate Matter (PM10) | 1/1/89 | 9/10/90 | 55 FR 32403, 8/9/90
Section 6.11.3 | Ozone | 4/1/09 | 10/17/12 | 77 FR 57029, 9/17/12
Section 6.13 | Visibility Monitoring: Theodore Roosevelt National Park | 1/9/96 | 6/20/97 | 62 FR 19224, 4/21/97
Chapter 7. Review of New Sources and Modifications.
Sections 7.1 thru 7.6 | Review of New Sources and Modifications | 1/24/72 | 5/31/72 | 37 FR 10842, 5/31/72
Chapter 7.7. Air Quality Modeling.
Section 7.7 | Air Quality Modeling | 4/1/09 | 10/17/09 | 77 FR 57029, 9/17/09
Chapter 7.8. Interstate Transport.
Section 7.8 | Interstate Transport of Air Pollution | 4/1/09 | 7/6/10 | 75 FR 31290, 6/3/10
Section 7.8.1 | Interstate Transport Relating to the 1997 8-hour Ozone and PM2.5 National Ambient Air Quality Standards | 4/1/09 | 12/22/10 | 75 FR 71023, 11/22/10
Chapter 8. Source Surveillance.
Chapter 8 | Source Surveillance | 1/24/72 | 5/31/72 | 37 FR 10842, 5/31/72
Chapter 9. Resources.
Chapter 9 | Resources | 4/1/09 | 10/17/12 | 77 FR 57029, 9/17/12
Chapter 10. Intergovernmental Cooperation.
Chapter 10. | Intergovernmental Cooperation | 1/24/72 | 5/31/72 | 37 FR 10842, 5/31/72
Chapter 12. The Small Business Assistance Program.
Chapter 12 | The Small Business Assistance Program | 10/23/92 | 2/10/94 | 59 FR 1485, 1/11/94

[FR Doc. 2015-30823 Filed 12-7-15; 8:45 am]

BILLING CODE 6560-50-P